COMMISSION ON CIVIL RIGHTS

Notice of Public Meeting of the Kentucky Advisory Committee; Correction

AGENCY: U.S. Commission on Civil Rights.

ACTION: Correction: Announcement of meeting.

SUMMARY: The Commission on Civil Rights published a document April 16, 2018, announcing an upcoming Kentucky Advisory Committee. The document contained an incorrect date of the meeting.

FOR FURTHER INFORMATION CONTACT: Jeff Hinton, DFO, at jhinton@usccr.gov or 404-562-7706.

Correction: In the Federal Register of April 16, 2018, in FR Doc. 2018-07841, on page 16285, in the first and second columns, correct the DATES caption to read:

DATES: The meeting will be held on Monday, May 17, 2018 at 12:00 EST.

Dated: April 26, 2018.
David Mussatt,
Supervisory Chief, Regional Programs Unit.

[FR Doc. 2018-09192 Filed 4-30-18; 8:45 am]

BILLING CODE P